NUCLEAR REGULATORY COMMISSION

[Docket No. 50-483]

Union Electric Company; Notice of Withdrawal of Application for Amendment to Facility Operating License

The U.S. Nuclear Regulatory Commission (the Commission) has granted the request of Union Electric Company (the licensee) to withdraw its December 15, 2003, application for proposed amendment to Facility Operating License No. NPF-30 for the Callaway Plant, Unit No. 1, located in Callaway County, Missouri.

The proposed amendment would have revised Technical Specifications (TSs) 3.3.9, “Boron Dilution Mitigation System (BDMS),” and 3.9.2, “Unborated Water Source Isolation Valves.” The proposed changes would replace the phrase “unborated water” by the word “dilution” in several places and delete references to isolation valves BGV0178 and BGV0601. A Note would also be added to TS 3.9.2 about dilution source path valves may be unisolated.

The Commission had previously issued a Notice of Consideration of Issuance of Amendment published in the Federal Register on February 3, 2004 (69 FR 5211). However, by letter dated October 29, 2004, the licensee withdrew the proposed change.

For further details with respect to this action, see the licensee's application for amendment dated December 15, 2003, and the licensee's letter dated October 29, 2004, which withdrew the application for a license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room ¹ on the internet at the NRC Web site, http://www.nrc.gov/reading-rm/adams/html. Persons who do not have access to ADAMS or who encounter problems in accessing the documents located in ADAMS, should contact the NRC PDR Reference staff by telephone at 1-800-397-4209, or (301) 415-4737 or by e-mail to pdr@nrc.gov.

¹ Public access to ADAMS has been temporarily suspended so that security reviews of publicly available documents may be performed and potentially sensitive information removed. Please check the NRC Web site for updates on the resumption of ADAMS access.

Dated at Rockville, Maryland, this 1st day of December 2004.
For the Nuclear Regulatory Commission.
Jack Donohew,
Senior Project Manager, Section 2, Project Directorate IV, Division of Licensing Project Management, Office of Nuclear Reactor Regulation.

[FR Doc. 04-26905 Filed 12-7-04; 8:45 am]

BILLING CODE 7590-01-P